DEPARTMENT OF AGRICULTURE

Rural Development; Notice of Privatization of the National Sheep Industry Improvement Center

AGENCY: Rural Development, USDA.

ACTION: Notice.

SUMMARY: The Secretary of Agriculture approved the Transition Plan to privatize the National Sheep Industry Improvement Center. The American Sheep and Goat Center, a Utah non-profit corporation, became the successor to the National Sheep Industry Improvement Center on October 1, 2006.

DATES: Privatization was effective Midnight, September 30, 2006.

FOR FURTHER INFORMATION CONTACT: Thomas C. Dorr, Under Secretary, USDA Rural Development, Room 205-W, Mail Stop 0107, 1400 Independence Avenue SW., Washington, DC 20250-0107, telephone: 202-720-4581, TTY: 800-877-8339 (Federal Information Relay Service).

SUPPLEMENTARY INFORMATION:

Background

Section 375 of the Consolidated Farm and Rural Development Act, 7 U.S.C. 2008j, created the National Sheep Industry Improvement Center (NSIIC) to strengthen the infrastructure of the sheep and goat industry. The NSIIC provided loans and grants for business ventures where normal commercial credit or funding was not available. Section 375(j) of the Farm Bill legislation required the privatization of the NSIIC to occur on the earlier of its receiving a certain level of Federal funding or September 30, 2006. The legislation required a transition plan, to be approved by the Secretary of Agriculture, that provides for a private successor entity that would have the same purposes and be able to continue the activities of the NSIIC. The Secretary of Agriculture has approved a privatization plan that was triggered by the September 30, 2006 deadline. The NSIIC ceased operations on September 30, 2006. The American Sheep and Goat Center became the successor private organization on October 1, 2006. All assets and liabilities of the NSIIC have now been transferred to the private American Sheep and Goat Center. The transition plan is completed as of May 23, 2007.

Dated: May 16, 2007.
Douglas Faulkner,
Acting Under Secretary, Rural Development.

[FR Doc. E7-9932 Filed 5-22-07; 8:45 am]

BILLING CODE 3410-XY-P